NATIONAL SCIENCE FOUNDATION

Notice of Permit Modification Request Received Under the Antarctic Conservation Act of 1978

AGENCY: National Science Foundation.

ACTION: Notice of permit modification request received under the Antarctic Conservation Act of 1978, Public Law 95-541.

SUMMARY: Notice is hereby given that the National Science Foundation (NSF) has received a request to modify a permit issued to conduct activities regulated under the Antarctic Conservation Act of 1978 (Pub. L. 95-541; Code of Federal Regulations Title 45, Part 670).

DATES: Interested parties are invited to submit written data, comments, or views with respect to the permit modification by March 9, 2009. The permit modification request may be inspected by interested parties at the Permit Office, address below.

ADDRESSES: Comments should be addressed to Permit Office, Room 755, Office of Polar Programs, National Science Foundation, 4201 Wilson Boulevard, Arlington, Virginia 22230.

FOR FURTHER INFORMATION CONTACT: Polly A. Penhale or Nadene G. Kennedy at the above address or (703) 292-8030.

Description of Permit Modification Requested

On October 1, 2008, the National Science Foundation issued a waste management permit (2009 WM-001) to Erica Wikander, Environmental Officer, Quark Expeditions, Inc. after posting a notice in the June 9, 2008 Federal Register. Public comments were not received. The issued permit was for the operation of remote field support and emergency provisions for the expedition vessels, AKADEMIK SERGEY VAVILOV, AKADEMIK IOFFEE and CLIPPER ADVENTURER. The permit holder requests to take 4 ATV's and two 10 gallon plastic containers of regular gasoline ashore, which will be housed in the garage overnight at Bellingshausen Station. The ATV's will be used during the course of a marathon that will be run on King George Island. The ATV's will be used primarily for safety reasons should anyone need to return to the beach or ship, due to an accident or a collapse. The ATV's will be used to conduct a thorough cleanup after the marathon.

In addition the permit holder proposes to take 3 portable toilets ashore and set them up in small tents. After the marathon everything will be removed back to the ship and no human waste will be left ashore. The waste from the portable toilets will be put into the storage tank for sewage on the ships.

The duration of the requested modification is coincident with the current permit which expires on March 31, 2013.

Nadene G. Kennedy,
Permit Officer.

[FR Doc. E9-2551 Filed 2-5-09; 8:45 am]

BILLING CODE 7555-01-P